DEPARTMENT OF COMMERCE

National Oceanic and Atmospheric Administration

RIN 0648-XE492

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that Exempted Fishing Permits to facilitate the use of monkfish research set-aside days-at-sea warrants further consideration. This notice is to provide interested parties the opportunity to comment on the proposed Exempted Fishing Permits.

DATES: Comments must be received on or before April 8, 2016.

ADDRESSES: You may submit written comments by any of the following methods:

• Email: NMFS.GAR.EFP@noaa.gov. Include in the subject line “Comments on 2016 Monkfish RSA EFP.”

• Mail: John K. Bullard, Regional Administrator, NMFS, Greater Atlantic Regional Office, 55 Great Republic Drive, Gloucester, MA 01930. Mark the outside of the envelope “Comments on 2016 Monkfish RSA EFP.”

• Fax: (978) 281-9135.

FOR FURTHER INFORMATION CONTACT: Reid Lichwell, Fishery Management Specialist, (978) 282-9112, Reid.Lichwell@noaa.gov.

SUPPLEMENTARY INFORMATION: These Exempted Fishing Permits (EFPs) would facilitate monkfish research set-aside (RSA) compensation fishing in support of projects funded under the 2016 monkfish RSA competition. Project proposals are currently under review. Consistent with previous monkfish RSA compensation fishing EFPs, vessels fishing under a RSA days-at-sea (DAS) would be authorized to harvest monkfish in excess of the landing limits in the Northern and Southern Monkfish Fishery Management Areas.

The monkfish RSA program has been allocated 500 monkfish RSA DAS as established by the New England and Mid-Atlantic Fishery Management Councils (70 FR 21929, April 28, 2005). These monkfish RSA DAS would be divided between research award recipients and sold to fishermen to fund approved monkfish research projects. Award recipients receive an allocation of RSA DAS and a maximum amount of landed weight that may be landed under available DAS. Projects are constrained to the total DAS or maximum available landing weight, whichever is reached first. NOAA's National Marine Fisheries Service uses 32,000 lb (14.51 mt) of whole monkfish for each RSA DAS to calculate a maximum allocation of 1,600,000 lb (725.75 mt) to be harvested under these projects. As an example, a project awarded 100 RSA DAS would receive a maximum RSA harvest limit of 320,000 lb (144.1 mt) of whole monkfish (or tail weight equivalent) to be landed. Allowing vessels an exemption from monkfish landing limits provides an incentive for vessels to purchase RSA DAS to catch more monkfish per-trip, while constraining each project to a maximum available harvest limit ensures that the overall monkfish RSA allocation will not be exceeded.

If approved, the applicants may request minor modifications and extensions to the EFP throughout the year. EFP modifications and extensions may be granted without further notice if they are deemed essential to facilitate completion of the proposed research and have minimal impacts that do not change the scope of the initially approved EFP request. Any fishing activity conducted outside the scope of the exempted fishing activity would be prohibited.

Authority: 16 U.S.C. 1801 et seq.

Dated: March 21, 2016.
Emily H. Menashes,
Acting Director, Office of Sustainable Fisheries, National Marine Fisheries Service.

[FR Doc. 2016-06687 Filed 3-23-16; 8:45 am]

BILLING CODE 3510-22-P